UNITED STATES INSTITUTE OF PEACE

Sunshine Act Meeting

DATE/TIME: Thursday, January 24, 2002, 9:15 a.m.—5 p.m.

LOCATION: 1200 17th Street, NW., Suite 200, Washington, DC 20036.

STATUS: Open Session—Portions may be closed pursuant to Subsection (c) of Section 552(b) of Title 5, United States Code, as provided in subsection 1706(h)(3) of the United States Institute of Peace Act, Public Law 98-525.

AGENDA: January 2002 Board Meeting; Approval of Minutes of the One Hundred Second Meeting (November 15, 2001) of the Board of Directors; Chairman's Report; President's Report; Committee Reports; Program Reports; Review of Individual Grant Applications; Other General Issues.

CONTACT: Dr. Sheryl Brown, Director, Office of Communications, Telephone: (202) 457-1700.

Dated: January 11, 2002.
Harriet Hentges,
Executive Vice President, United States Institute of Peace.

[FR Doc. 02-1327 Filed 1-15-02; 11:48 am]

BILLING CODE 6820-AR-M